DEPARTMENT OF HOMELAND SECURITY

Bureau of Customs and Border Protection

Notice of Revocation of Customs Broker Licenses

AGENCY: Bureau of Customs and Border Protection, U.S. Department of Homeland Security.

ACTION: Customs broker license revocations for failure to file the triennial status report and applicable fee.

SUMMARY: Pursuant to section 641 of the Tariff Act of 1930, as amended (19 U.S.C. 1641), and Title 19 of the Code of Federal Regulations at section 111.30, the following Customs broker licenses are revoked by operation of law without prejudice. Note that some of these entities may continue to provide broker services under another valid brokerage license.

Dated: March 18, 2004.
Jayson P. Ahern,
Assistant Commissioner, Office of Field Operations.

License port | Licensee name | License No.
Anchorage, AK—3126 | Gronewald, LaVerne | 9907
Atlanta, GA—1704 | Duty R.A.D. Solutions, Inc Finnegan-Price, Sharon Lee, Lisa Pizzini, Kari Sego, Lisa McNeil, Eric Munie, Kim Watkins, Leslie Milligan | 16057 14590 15642 16858 13411 14857 17036 14306
Baltimore, MD—1303 | Andranian, Joseph Bellack, Paul Bollhorst, Donald Braverman, Julius Caplan, Ronald Connor, Paul Davis, Michael Einsidler, Neal Fillmore, Joan Flynn, Myles Hendrix, Marshall Horwitz, Morris Keeney, Stephen Kraus, Duncan Kuhl, Donald Mahon, Patrick McDonagh, Meredith Neff, Monica Nowakowski, Joan Price, Mary Schevitz, Howard Stern, George Wilmot, James Young, Robert | 14849 5425 4256 4157 4105 2856 4530 13784 9747 10957 6694 3434 4904 3587 4111 7210 13730 12527 9699 10297 4159 3123 6079 7709
Boston, MA—0401 | Advance Brokers, LTD Brown, Jeffrey E Butler, Patrick M Cho, Chungo Digiulio, Lisa Gangai, Sara Yuki Horrox, James Carl Kearney, Marla H. Bernstein Livoli, Barbara Ann Maguire, Karen Elizabeth Marshall, Carol Ann Marshall, William Martin, Marie Louise Mui, Christina C Shaw, Ransom Bonnet Stevenson, Barbara J Takles, Constantinos P Vitorino, Nancy | 5551 9703 11547 17503 16421 12804 15280 14836 12102 12650 6404 3676 14210 14503 13253 9704 16943 16113
Buffalo, NY—0901 | Barber, Jonathan Fazily, Fawzia Gandy, Michael Herlehy, Kendra Morganti, John Nichols, Gregory Thill, Joseph Wall, Helen Wilkinson, Christopher Zimmerman, Terry | 17233 15297 12162 12153 20292 20293 15528 12586 20237 5056
Champlain-Rouses Point—0712 | Fenner, Tanya L Gehrig, Paul M Gibbons, John E Kelley, Judy Parisian, George Reed, Jr, Harry H Snow, Richard N Turcotte, Gaston E Valach, Victor Wood, Gregory H Wright, Rodney L | 16463 14287 13821 20722 10423 15422 12672 5271 3166 4824 4172
Charleston, SC—1601 | Beier, William J Richards, Robert Alfred Hostetter, Harlan H Diaz, Jr, Antonio Manuel Fenwick, Judith Proctor Winters, Deborah J Laskey, Kathleen H Huff, Nicole M Deal, Susan A Gaillard, Sarah S Allensworth, Andrea (Lyles) Nelson, Angela Ackerman Wunderler, Dayle A Lesemann, III, Arvid R Cournoyer, Shannon M Foster, Tyler Kenneth Blanks, Caroline Ruth | 15892 03310 04147 06175 09959 10215 10242 10684 10742 11521 11833 12342 12343 14008 15158 16554 20797
Charlotte, NC—1512 | Drawback Central Inc Morton, Christopher Dean Wagoner, Elizabeth A | 12596 20585 20208
Chicago, IL—3901 | Griffiths, William Jones, Allen E Keith, Nelda Mueller, Gene L Van Stee, Mark Amber Marine International LTD Andro-Sierra International Eagle International LTD Briskey, Bradford Chen, Grace Culloton, Julie Donnell, Joseph Farnsworth, Marjorie Heimendinger, Gary Kortes, Robert Lambert, Cathryne Szymanski, Richard Wolski, Conrad Wright, Pamela Zlatanovski, Zaklina | 4800 5384 10802 4903 15009 13312 21686 6629 13521 21672 17016 5264 14300 5311 6894 20662 10923 12556 13027 16864
Cleveland, OH—4101 | Ball, Nancy Dixon, David Kindle, David E Longley, Keith Murray, Robert J Newman, Robert Noss, Jr, Donald Phillips, Franklin J Porter, Susan Quinn, Heidi M (Longley) Ritter, Jennifer Robinson, Faith D Seybold, Suzane M Smith, Yang Xu Stamm, Michael Stewart, Jeffery Vendetti, Marilou Vinson, James P White, Troy Wolff, Thomas McGill, Larry Meuter, Walter Shaver, Joseph Shaw, Robert M Bain, Albert E Ball, Lonnie Kirsch, Elizabeth Starr, David B | 16459 15179 15183 11888 14219 7554 15229 2598 12236 10576 15277 14420 12712 14938 16377 12227 12508 16383 14770 14422 9988 2158 21571 10207 9301 14717 20223 10208
Dallas/Ft. Worth, TX—5501 | Crowder, John Pike, James Robinson, John Rogers, Joel | 15135 17116 16418 20727
Detroit, MI—3801 | Blanchard, Rachelle Filbin, William Gerber, William Irvin, Michael Leakeas, Stefannie Lowrie, Richard Michel, Daniel Moga, Jeffrey Molina-Harris, Jeanette Moore, Gerald Morton, Anthony Nahrgang, David Paschke, Randolph Pongracz, Wanda Rhoads, Susan Ritter, Michael Salo, Ann Schmidt, Jack Straith, Lisa | 11025 2672 4119 17135 16311 4773 13861 11031 16784 15203 14952 3576 13299 11032 14263 14882 5518 7483 16585
El Paso, TX (Service)—2402 | Arevalo, Jose Flynn, Jack Fonseca, Elvia R G.L. Gumbert Company, Inc Gonzalez, Kathleen Rose Interamericas Customs Brokerage, Inc Kotkowski, Doron Lizarraga, Marcos A Lockwood, Betty C Martinez, Edgar Martinez, Jr, Robert Pena, Jr, Alberto Rupe, Roger P | 12776 13206 16094 5424 13731 13868 13584 12362 4806 7104 13533 15953 12775
Great Falls, MT (Service)—3304 | Lee, Mark Mueller, Dennis R Parker, Jodi Scoggins, Lewie T Trapani, Michael C Worth, Sherry Kay | 21507 13534 16981 12739 13745 10893
Houston, TX—5301 | Fox, Whitney Francis, James Fuentes, Pete Hart, Elizabeth Hood, Christine Kuperman, Alex Lee, Russell McClung, Melinda Moore, Marlene Moore, Robert Schurig, Christina Sitton, Scott | 16796 16636 5866 14349 14687 20809 16888 16792 12090 14148 12821 15738
Laredo, TX—2304 | Benitez, Delia Cienfuegos, Inc H.C. Int'l U.S. Customhouse Broker, Inc Hakes, Lynn Interamerica Brokerage Maingot, Catherine MTZ International, Inc Ramos, Sylvia Rangel, Mario Negrete Soma Custombroker Corp Sylvia A. Ramos, Inc | 16473 15211 13137 7556 13991 16173 16524 12384 5703 17230 15655
Los Angeles, CA—2704 | Barth, Keith Robert Bloom, Michael Arthur Budnick, Theodora Helene Cadenhead, III, Frank C Chung, Eunhee Clarke, Ronald Milton Denny, Christine Maria Finley, Michelle Marie Fong, Linda Chan Grace, John Matthew Gurstel, Dana Allison Hardin, Mary Kathleen Harrison, Gregory Glenn Hartman, Robert Hashish, Fahri Ilias Hinojosa, Julio Jordan, Alexis Kimberly La Riva, Michael Lam, Benny Leafa, Lorraine Meyer, Mir Panlilio, Josette Retamal, Sergio Umpierrez Roldan, Kristine Russell, Jay Sciola, Darlene Suzuki, Blake Young, David Michael Young, Harold | 14431 17353 11095 9449 12290 3549 16818 14656 20278 15248 14072 16889 9735 9434 12709 15501 16543 20038 14684 13184 14524 16933 14961 21245 4550 9111 11125 14099 13969
Miami, FL—5201 | Aftimos, Fadi Boyer, Michael A Chiras, Faith M Continental Express Intl Customs Clearance Dispatch Inc F I F North America Customs Brokers Fakla, Istvan Ferguson, Robin K Follmer, Robert C Garcia, James Innes, John Lion Customs Brokers Martel, Victor B Matusek, John Carl Max International McKenna, Michael T National Bonded Warehouse, Inc Pantaleon, Hugo Pasqual, Cynthia Pioneer General, Inc Spencer, Sharon B TEKA International, Inc Unit Int'l of Miami DBA ABA Brokerage Co Wicklman, Gregory A Stockstad, Chery Ann National Bonded Warehouse, Inc | 15415 14927 12222 13166 6204 11343 15414 13680 6917 15409 10593 20030 14926 7503 10637 13573 20250 6833 11656 15503 15637 20501 13168 15636 7723 20250
Milwaukee, WI—3701 | Glaunert, Diana Lemke, Allen Voisin, Robert | 9616 4615 17566
Minneapolis, MN—3501 | All-Ways Cargo Malek, Carol Buchanan Flora, Scott Supina, Susan | 14780 6239 13927 16848
Mobile, AL—1901 | Domning, Juanita Harris M. Steward, CB, Inc Marquet, Wallace | 7108 14893 4764
New Orleans, LA—2002 | Cain, Gregory Dillon, Talmage Eddings, Bradley Galanto, Trina Jones, Patricia Krumm, Sheryl Lawrence M. Parry Jr Inc Luskcom Group, Inc Miller, Frederick T Oaks, Terry L Philbin Cazalas & St. John Schaerer, Melissa D Thornton, Kathleen Vegas, Irvin E | 16972 6956 17248 14589 12338 20344 7309 9569 2486 7657 3759 11807 6779 4696
New York, NY—1001 | Abbe, Herbert John Abe M. Knipper, Inc Aldamuy Jr, Humbert Catalanotto, Orquidea Chang, Matthew Cohen, Nathaniel Conway, Francis Cullen, Lawrence De Jesus, Rowena Dutta, Kabita Emanuele, John Fong, Stanley Freschl, Joel G.S.A. Inc H. Abbe International, Inc Heeger, Gunther Heemsoth-Kerner Corp Hillerud, Dennis Homa, Michael Import-Export Service of NJ, Inc Isacoff, Norman Kaminsky, Jane Klein, Jack Lanigan, Robert Lawler, James Lesser, Stanford Leung, Sammy Shui Lind, Patricia Losche, Richard Lynch, Tracey Ann Mattina, William Matyas, Yehuda Miranda, Juliette Negron, Jose Ng, Sze Yan O'Neil, Robert Petersen, Douglas Pratt, Ian Pujol, Jerome Rashkover, Deborah S. Stern Custom Brokers, Inc Sabella, Joseph Sandvik, Gary Sapot, Ignacio Schneider, Richard Schwartz, Sam Scifo, Gaetano Shope, Ilene Six, Edward Smith, Barry Stotchik, Morris TAC Customs Brokers, Inc Tobia, Lawrence Tong, Hsin-Chung Tucciarone, Laura Vajda, William Van Ornum, Jeanne Weidner, John Wein, Nathan Wyatt, Chad | 4428 4981 7704 9573 8000 759 6596 3961 15161 11222 9114 9199 9951 20469 10428 6228 1544 10257 6908 3068 4970 13880 3658 6863 3842 3468 15206 15050 9306 16070 10060 17061 17314 3178 20612 3458 12279 17487 3527 10373 4203 13214 6867 4320 13039 6216 3558 3989 6565 5597 3887 9175 12614 12430 12525 11860 9721 2623 2987 13330
Nogales, AZ (Service)—2604 | Burns, Steven Gill, Richard Ibarra Jr, Luis Piccioli, Thomas Polkinhorn, Bill Ramirez, Marco Smallwood, Loretta Smith, Deanne Terrazas, Marco Trans-Mex Customhouse Brokerage Inc Weimer, Alex | 10187 4424 20291 12545 2261 9649 11789 13343 12591 16791 13386
Norfolk, VA—1401 | Magenbauer, John Vanderberry, Edward | 13502 3799
Otay Mesa—2506 | Ortiz, Sheri Price, Todd Romero, Rene | 20923 16470 2576
Philadelphia, PA—1101 | Amoriello, Joseph L Baird, Kenneth J Chrisman, Jr, William W Gaudio, Alan Gehry, Bruce R Pennell, Jr, William G Sun, Charlene Chen Wallace, Barbara Ann Walsmann, Monika Yost, John Andrew | 11446 7550 6549 10039 7429 6445 14867 5190 16213 13352
Portland, ME—0101 | Chase Leavitt CHB Fenderson, Robert T | 6730 4496
Portland, OR—2904 | Taplin, Suzanne L | 4701
Providence, RI—0502 | Nelson, John | 7716
San Francisco, CA—2809 | Roque, Caesar Silvestri, Robert Rasche, Stephen Adams, L Ambris, Pamela Beijen, Bonnie Belenky, Daniel Benge, Mark Billingsley, Natalie Bon, Maria-Edna Bonfiglio, James Bonham, Verlene Bresee, Debbie Carpenter, David Carrier, James Caughell, Ralph Christ, Harry Clausen, Catherine Coady, Richard Davis, Sandra Edwards, Hudson Elam, Alan Ellis, Paul Galfi, Eva Garrett, Ellen Groh, Thomas Harrison, Alastair Helm, Patricia Howland, Franklin IMD Logistics Solutions, Inc Koons, David Kubo, Christine Landa, Jeffrey Lee, John Lie, Jae Louks, Charlotte Lum, Homer Martin, Carolyn Muller, Augusto Oldmen, Monica Perkins, John Plimpton, Harlow Roberts, William Robinson, Carl Salach, James Sanchez, Javier Skelton, Leslie Smallcombe, Rosemarie Stanton, Thomas Sunderfelt, John Swift, Edward Toman, Edward Wanerman, Brian Wells, Marlene Whittier, Louis Wiederhold, Thomas Williams, Charles Young, Sarah | 4485 6435 10310 3707 12195 3591 7948 7490 11055 6311 6835 12668 9920 16355 4225 5169 11546 6804 5820 6695 5945 12196 16357 20681 6564 12106 10319 8074 1497 17345 16364 13068 7023 6828 11862 4748 4266 13130 9953 11715 7790 4383 4085 3463 12850 13831 3427 12424 5846 4332 4745 17373 11003 13563 2217 4758 13022 13344
San Juan, PR—4909 | Cortes, Luis | 21319
Savannah, GA—1703 | Black, James Bruner, Kellie Coleman, James D.J. Powers International Denny, Christopher Dewberry, Susan Koneman, Michelle Kunimoto, Rebecca McNeil, Eric Tradesource, Inc Watkins, Lesley | 5802 15474 14601 16974 13432 13107 14998 14163 14857 13007 14306
Seattle, WA—3001 | Bell, Marcena Brown, Todd Burnham, Dana Egenes, Clay Freeman, Dennis Henderson, Willie Keller, Mary Lane, David Marx, Margaret McNally, Tessa McClary, Daniel Palmer, Holly Swenson, Carl Welk, Dorothea Yager, Richard | 14264 13112 15112 15577 5484 11980 11986 14959 16821 16510 4308 15004 2621 12549 5513
St. Louis, MO—4503 | Colombo, Mario Green, III, James A Gurski, Julie Stephens, Isom Irwin Trego, Connie J Volkman, Patricia K | 6714 4250 12515 8053 5647 11548
Tampa, FL—1801 | Bergermann, Vera Dees, Frances McGiffin, Jr, JNO | 13715 5088 1373
Washington, DC—5401 | Carlson, Amy Layton, James | 15791 17588

[FR Doc. 04-7383 Filed 3-31-04; 8:45 am]

BILLING CODE 4820-02-P